DEPARTMENT OF ENERGY

Federal Energy Regulatory Commission

[Docket Nos. PL04-17-000 and AD04-11-000]

State of the Natural Gas Industry Conference; Staff Report on Natural Gas Storage; Notice of Public Conference and Agenda

October 13, 2004.

As announced in the Notice of Conference issued September 30, 2004, the Federal Energy Regulatory Commission will convene a public conference on October 21, 2004, at 9 a.m., at the Commission's Offices in Washington, DC to engage industry members and the public in a dialogue about policy issues facing the natural gas industry today and the Commission's regulation of the industry for the future, as stated in the previous notice. All interested persons are invited to attend.

Location

The conference will be held in the Commission Meeting Room (Room 2-C). Observers will be accommodated on a space available basis, but seating will also be available in an overflow room, which will have a broadcast of the discussion. All visitors must check-in at the First Street entrance. All visitors should have picture identification readily available to ensure a quick check-in.

Participation

The conference will consist of keynote opening remarks, three panel sessions and an open forum. Each panelist will give a short oral presentation lasting no more than ten minutes on their views of the panel topic and then the Commission Staff and the panelist will exchange views and questions, followed by comments or questions from the audience. If panelists are going to refer to any detailed charts or figures, they should bring 25 copies for Commission Staff and 100 copies for the audience.

The first panel session will be for comments on findings and ideas presented in the FERC Staff Report, “Current State of and Issues Concerning Underground Natural Gas Storage” and also focus on how the decisions to develop natural gas pipeline or storage projects have been impacted by existing Commission policies. The second session will consider whether a program for creating more uncommitted reserve storage and pipeline capacity could be feasible and useful for the gas industry and customers. The third session will explore the changing roles of industry segments and how that affects commodity price volatility.

Following the panel session presentations, the Commission will provide an open forum for interested persons to raise issues and make policy recommendations for Commission consideration not discussed by the panels. All open forum statements should be limited to five minutes. A sign-up sheet for the open forum will be available the morning of the conference.

Procedures To File Written Comments

Pre-Conference Background Information

If the panel participants shown in the Conference Agenda below want to submit background information, position statements or power point presentations concerning their topics, they are encouraged to file such items with the Commission by October 18, 2004 using the procedures below. However, live power point presentations are not going to be included during the panel discussions. Any such items filed in advance of the Conference will then be available on the Commission's e-Library.

Post-Conference Comments

After the conference, panel participants and all other interested persons may file additional comments on the issues discussed at the conference, or other matters relevant to this proceeding, by November 15, 2004. Comments should include a one-page, single spaced, position summary.

Paper or Electronic Comments

Comments may be filed in paper format or electronically. Those filing electronically do not need to make a paper filing. For paper filings, the original and 14 copies of such comments should be submitted to the Office of the Secretary, Federal Energy Regulatory Commission, 888 First Street, NE., Washington, DC 20426, and should refer to Docket Nos. PL04-17-000 and AD04-11-000.

Documents filed electronically via the Internet can be prepared in a variety of formats, including MS Word, Portable Document Format, Real Text Format, or ASCII format, as listed on the Commission's at http://www.ferc.gov, under the e-Filing link. The e-Filing link provides instructions for how to Login and complete an electronic filing. First time users will have to establish a user name and password. The Commission will send an automatic acknowledgement to the sender's e-mail address upon receipt of comments.

All comments will be placed in the Commission's public files and will be available for inspection in the Commission's Public Reference Room at 888 First Street, NE., Washington, DC 20426, during regular business hours. In addition, all comments may be viewed, printed, or downloaded remotely via the Internet through FERC's home page using the eLibrary link.

Off-the-Record Communications

The purpose of this conference is to discuss generic issues and not contested cases pending before the Commission. If any comments raise specific issues concerning pending contested cases, those comments will be subject to the Commission's Off-the-Record Communications rules located in subpart V of part 385 of the Commission's regulations, including the public notice requirements and sanctions listed in sections 385.2201(h) and (i).

Transcripts

Transcripts of the conference will be available from Ace Reporting Company (202-347-3700) for a fee. The transcript also will be available on the Commission's FERRIS system two weeks after the conference. Additionally, Capitol Connection offers the opportunity for remote listening and viewing of the conference. It is available for a fee, live or over the Internet, via C-Band Satellite. Persons interested in receiving the broadcast, or who need information on making arrangements should contact David Reininger or Julia Morelli at Capitol Connection (703-993-3100) as soon as possible or visit the Capitol Connection Web site at http://www.capitolconnection.gmu.edu and click on “FERC.”

Additional Information

For additional information, please contact Richard Foley at 202 502-8955 or by e-mail at Richard.Foley@ferc.gov.

Magalie R. Salas,
Secretary.

State of the Natural Gas Industry Conference; Agenda (as of October 13, 2004)

9 a.m. Opening Remarks—Berne Mosley, Director, Division of Pipeline Certificates, Office of Energy Projects.

9:10 a.m. Keynote Remarks—Commissioner Donald L. Mason, Public Utilities Commission of Ohio; Chairman of the Gas Committee, National Association of Regulatory Utility Commissioners; Committee(s) Chairman of the Interstate Oil and Gas Compact Commission.

9:25 a.m. Session I—Comments on Staff Report and Storage Development Policy. Moderator—Berne Mosley.

Richard Daniel, President, EnCana Gas Storage.

Matt Morrow, President, ENSTOR.

Ryan O'Neal, Vice President—Development, Sempra Energy International.

James F. Bowe, Jr., Dewey Ballantine LLP & Red Lake Gas Storage, L.P.

Mark D. Cook, Principal, SGR Holdings, LLC.

Donald J. Zinko, Vice President, Business Development Western Pipelines and EPNG Marketing, El Paso Corp.

Carl Levander, Vice President, Marketing and Regulatory Strategy Columbia Gas Transmission Corporation.

11:25 a.m. Break.

11:45 a.m. Session II—Concept of a Program for Creating More Uncommitted Reserve Storage and Pipeline Capacity. Moderator—Berne Mosley.

James F. Wilson, Principal, LECG, LLC.

John M. Hopper, President and CEO, Falcon Gas Storage Company.

Jay Dickerson, Vice President, Tennessee Gas Pipeline.

Timothy J. Oaks, Manager Federal Regulatory Affairs, UGI Utilities, Inc.

Craig Chancellor, Director, National Fuels Regulatory, Calpine Corp.

12:45 p.m. Session III—Changing Roles of Industry Segments and How That Affects Commodity Price Volatility. Moderator—Berne Mosley.

Scott R. Smith, Sr. Vice President & Partner, Lukens Energy Group.

Mr. Greg Rizzo, Group Vice President, Duke Energy Gas Transmission.

Thomas L. Price, Vice President Marketing, Colorado Interstate Gas.

Representative of NiSource Distribution Companies.

1:45 p.m. Open Forum—Moderator—Berne Mosley.

2:30 p.m. Closing Remarks—Berne Mosley.

[FR Doc. E4-2743 Filed 10-20-04; 8:45 am]

BILLING CODE 6717-01-P